DEPARTMENT OF ENERGY

Federal Energy Regulatory Commission

[Docket No. OR10-5-000]

Suncor Energy Marketing Inc.; Notice of Filing

January 26, 2010.

Take notice that on January 13, 2010, Suncor Energy Marketing Inc. (Petitioner) filed a petition for declaratory order pursuant to Rule 207(a)(2) of the Commission's Rules of Practice and Procedure, 18 CFR 385.207(a)(2) (2009), requesting that the Commission declare that due to dramatically changed circumstances, the long-term rate methodology for the United States portion of the Alberta Clipper Project will not result in just and reasonable rates in the near-term and cannot be put into effect. Petitioner also seeks an order by the Commission establishing a near-term rate treatment for Alberta Clipper costs that will be effective from the Alberta Clipper Project's in-service date until such time as the United States portion of the Project is needed and the Commission determines that the long-term rate methodology is just and reasonable under the circumstances prevailing at the time.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on February 12, 2010.

Kimberly D. Bose,
Secretary.

[FR Doc. 2010-2103 Filed 2-1-10; 8:45 am]

BILLING CODE 6717-01-P